DEPARTMENT OF COMMERCE

International Trade Administration

Initiation of Five-Year (Sunset) Review; Correction

AGENCY: Enforcement and Compliance, International Trade Administration, Department of Commerce.

SUMMARY: On November 1, 2019, the Department of Commerce (Commerce) published a notice of initiation of five-year reviews (sunset reviews). This document serves to correct that notice.

DATES: Applicable November 29, 2019.

FOR FURTHER INFORMATION CONTACT: Brenda E. Brown, Office of AD/CVD Operations, Customs and Liaison Unit, Enforcement and Compliance, International Trade Administration, U.S. Department of Commerce, 1401 Constitution Avenue NW, Washington, DC 20230; telephone: (202) 482-4735.

SUPPLEMENTARY INFORMATION: On November 1, 2019, the Department of Commerce (Commerce) published a notice of initiation of five-year reviews (sunset reviews). See Initiation of Five-Year (Sunset) Reviews, 84 FR 58687 (November 1, 2019) (November 2019 Sunset Reviews Initiation Notice). In that notice, Commerce inadvertently omitted the antidumping and countervailing duty suspension agreements on Sugar from Mexico (A-201-845 and C-201-846) from the list of cases for which sunset reviews initiate in November 2019. This document serves to correct the November 2019 Sunset Reviews Initiation Notice for the aforementioned items.

This correction document for the initiation of sunset reviews is being published in accordance with section 751(c) of the Tariff Act of 1930, as amended, and 19 CFR 351.218(c).

Dated: November 20, 2019.
James Maeder,
Deputy Assistant Secretary for Antidumping and Countervailing Duty Operations.

[FR Doc. 2019-25653 Filed 11-29-19; 11:15 am]

BILLING CODE 3510-DS-P